DEPARTMENT OF STATE

[Public Notice 8708]

In the Matter of the Review of the Designation of Continuity Irish Republican Army and Other Aliases

As a Foreign Terrorist Organization pursuant to Section 219 of the Immigration and Nationality Act, as amended.

Based upon a review of the Administrative Record assembled pursuant to Section 219(a)(4)(C) of the Immigration and Nationality Act, as amended (8 U.S.C. 1189(a)(4)(C)) (“INA”), and in consultation with the Attorney General and the Secretary of the Treasury, I conclude that the circumstances that were the basis for the 2009 determination to maintain the designation of the aforementioned organization as a Foreign Terrorist Organization have not changed in such a manner as to warrant revocation of the designation and that the national security of the United States does not warrant a revocation of the designation.

Therefore, I hereby determine that the designation of the aforementioned organization as Foreign Terrorist Organization, pursuant to Section 219 of the INA (8 U.S.C. 1189), shall be maintained.

This determination shall be published in the Federal Register.

Dated: April 17, 2014.
John F. Kerry,
Secretary of State.

[FR Doc. 2014-09477 Filed 4-24-14; 8:45 am]

BILLING CODE 4710-10-P